DEPARTMENT OF DEFENSE

Department of the Air Force

[Docket ID USAF-2009-0023]

Privacy Act of 1974; System of Records

AGENCY: Department of the Air Force, DoD.

ACTION: Notice to amend a system of records.

SUMMARY: The Department of the Air Force is proposing to amend a system of records notice in its existing inventory of records systems subject to the Privacy Act of 1974, (5 U.S.C. 552a), as amended.

DATES: This proposed action will be effective without further notice on 01 June 2009, unless comments are received which result in a contrary determination.

ADDRESSES: Department of the Air Force Act Privacy Office, Air Force Privacy Act Office, Office of Warfighting Integration and Chief Information Officer, Attn: SAF/XCPPI, 1800 Air Force Pentagon, Washington, DC 20330-1800.

FOR FURTHER INFORMATION CONTACT: Mr. Ben Swilley at (703) 696-6648.

SUPPLEMENTARY INFORMATION: The Department of the Air Force systems of records notices subject to the Privacy Act of 1974, (5 U.S.C. 552a), as amended, have been published in the Federal Register and are available from the address above.

The specific changes to the record systems being amended are set forth below followed by the notice, as amended, published in its entirety. The proposed amendments are not within the purview of subsection (r) of the Privacy Act of 1974, (5 U.S.C. 552a), as amended, which requires the submission of a new or altered system report.

Dated: March 31, 2009.
Patricia L. Toppings,
OSD Federal Register Liaison Officer, Department of Defense.

F033 AF E

System name:

Air Force Directory Services (February 25, 2005, 70 FR 9283).

Changes:

* * * * *

System location:

Delete entry and replace with “HQ 754 Electronic Systems Group/DON, 201 E. Moore Dr., Bldg 856, Room 202, Gunter Annex, Maxwell AFB, AL 36114-3014.”

* * * * *

Categories of records in the system:

Delete entry and replace with “Information includes name, Electronic Data Interchange-Personal Identifier (EDI-PI), Social Security Number, date of birth, gender, citizenship status, Major Command (MAJCOM), base name, office symbol, assigned and attached unit/Personnel Accounting Symbol (PAS), personnel category code, duty assigned code, generational qualifier, pay plan, pay grade, rank, reservist/Air National Guard (ANG) category code, non-publish Status (protected airman), phone number, fax number, e-mail address, DoD Public Key Infrastructure (PKI) certificate.”

Purpose(s):

Delete entry and replace with “Air Force Directory Services (AFDS) is a near real time data service that consolidates authoritative personnel identity data from multiple Department of Defense (DoD) and Air Force personnel systems integrating it into a single directory. AFDS' consolidated identity data directory provides transparency to the authoritative data required for access authorization and authentication purposes into these mission support systems and applications.”

* * * * *

Storage:

Delete entry and replace with “Electronic storage media.”

* * * * *

System manager(s) and address:

Delete entry and replace with “Program Manager, Air Force Directory Services, Program Management Office, HQ 754 ELSG/DON, 201 E. Moore Dr., Bldg 856, Room 202, Gunter Annex, Maxwell AFB, AL 36114-3014.”

Notification procedures:

Delete entry and replace with “Individuals seeking to determine whether information about themselves is contained in this system of records may contact the Air Force Directory Services Technical Lead, 201 E. Moore Dr., Bldg 856, Room 202, Gunter Annex, Maxwell AFB, AL 36114-3014.

Written request should contain full name, Social Security Number (SSN) and complete mailing address with notarized signature as below.

An unsworn declaration under penalty of perjury in accordance with section 1746 of 28 U.S.C. (Reference (n)) or notarized signatures are acceptable as a means of proving the identity of the individual.

If an unsworn declaration is executed within the United States, its territories, possessions, or commonwealths, it shall read “I declare (or certify, verify, or state) under penalty of perjury that the foregoing is true and correct. Executed on (date). (Signature).”

If an unsworn declaration is executed outside the United States, it shall read “I declare (or certify, verify, or state) under penalty of perjury under the laws of the United States of America that the foregoing is true and correct. Executed on (date). (Signature).”

Record access procedures:

Delete entry and replace with “Individuals seeking to access records about themselves contained in this system of records may contact the Air Force Directory Services Technical Lead, 201 E. Moore Dr., Bldg 856, Room 202, Gunter Annex-Maxwell AFB, AL 36114-3014.

Written request should contain full name, Social Security Number (SSN) and complete mailing address with notarized signature as below.

An unsworn declaration under penalty of perjury in accordance with section 1746 of 28 U.S.C. (Reference (n)) or notarized signatures are acceptable as a means of proving the identity of the individual.

If an unsworn declaration is executed within the United States, its territories, possessions, or commonwealths, it shall read “I declare (or certify, verify, or state) under penalty of perjury that the foregoing is true and correct. Executed on (date). (Signature).”

If an unsworn declaration is executed outside the United States, it shall read “I declare (or certify, verify, or state) under penalty of perjury under the laws of the United States of America that the foregoing is true and correct. Executed on (date). (Signature).”

Contesting record procedures:

Delete entry and replace with “The Air Force rules for accessing records and for contesting contents and appealing initial agency determinations are published in Air Force Instruction 33-332, Privacy Act Program, 32 CFR part 806b; or may be obtained from the system manager.”

Record source categories:

Delete Entry and replace with “Information is derived from data originating from the following official DoD systems: Military Personnel Data System (MilPDS), Defense Manpower Data Center (DMDC), Defense Civilian Personnel Data System (DCPDS), Global Directory Services (GDS), Air Force Global Address Listing (AFGAL) and Military Personnel Execution System (MPES).”

* * * * *

F033 AF E

System name:

Air Force Directory Services (AFDS)

System location:

HQ 754 Electronic Systems Group/DON, 201 E. Moore Dr., Bldg 856, Room 202, Gunter Annex, Maxwell AFB, AL 36114-3014.

Categories of individuals covered by the system:

Air Force active duty, reserve and guard members, civilian employees, contractors, foreign nationals, and retirees.

Categories of records in the system:

Information includes name, Electronic Data Interchange-Personal Identifier (EDI-PI), Social Security Number, date of birth, gender, citizenship status, Major Command (MAJCOM), base name, office symbol, assigned and attached unit/Personnel Accounting Symbol (PAS), personnel category code, duty assigned code, generational qualifier, pay plan, pay grade, rank, reservist/Air National Guard (ANG) category code, non-publish Status (protected airman), phone number, fax number, e-mail address, DoD Public Key Infrastructure (PKI) certificate.

Authority for maintenance of the system:

10 U.S.C. 8013, Secretary of the Air Force; Air Force Instruction 33-213, Identity Management and E.O. 9397 (SSN).

Purpose(s):

Air Force Directory Services (AFDS) is a near real time data service that consolidates authoritative personnel identity data from multiple Department of Defense (DoD) and Air Force personnel systems integrating it into a single directory. AFDS' consolidated identity data directory provides transparency to the authoritative data required for access authorization and authentication purposes into these mission support systems and applications.

Routine uses of records maintained in the system including categories of users and the purpose of such uses:

In addition to those disclosures generally permitted under 5 U.S.C. 552a(b) of the Privacy Act of 1974, these records contained therein may specifically be disclosed outside the DoD as a routine use pursuant to 5 U.S.C. 552a(b)(3) as follows:

The DoD ‘Blanket Routine Uses’ published at the beginning of the Air Force's compilation of record system notices apply to this system.

Policies and practices for storing, retrieving, accessing, retaining, and disposing of records in the system:

Storage:

Electronic storage media.

Retrievability:

Records are retrieved by a unique 10-digit identifier, Electronic Data Interchange-Personal Identifier (EDI-PI).

Safeguards:

Records are accessed by person(s) responsible for servicing the record system in performance of their official duties and by authorized personnel who are properly screened and cleared for need-to-know. The storage area network hosting the data is located in a controlled area secured by an electronic entry system relying on a security token and PIN. Access to the automated records is controlled and limited.

Retention and disposal:

Deleted when superseded, obsolete, or no longer needed, whichever is later.

System manager(s) and address:

Program Manager, Air Force Directory Services, Program Management Office, HQ 754 ELSG/DON, 201 E. Moore Dr., Bldg 856, Room 202, Gunter Annex, Maxwell AFB, AL 36114-3014.

Notification procedures:

Individuals seeking to determine whether information about themselves is contained in this system of records may contact the Air Force Directory Services Technical Lead, 201 E. Moore Dr., Bldg 856, Room 202, Gunter Annex, Maxwell AFB, AL 36114-3014.

Written request should contain full name, Social Security Number (SSN) and complete mailing address with notarized signature as below.

An unsworn declaration under penalty of perjury in accordance with section 1746 of 28 U.S.C. (Reference (n)) or notarized signatures are acceptable as a means of proving the identity of the individual.

If an unsworn declaration is executed within the United States, its territories, possessions, or commonwealths, it shall read “I declare (or certify, verify, or state) under penalty of perjury that the foregoing is true and correct. Executed on (date). (Signature).”

If an unsworn declaration is executed outside the United States, it shall read “I declare (or certify, verify, or state) under penalty of perjury under the laws of the United States of America that the foregoing is true and correct. Executed on (date). (Signature).”

Record access procedures:

Individuals seeking to access records about themselves contained in this system of records may contact the Air Force Directory Services Technical Lead, 201 E. Moore Dr., Bldg 856, Room 202, Gunter Annex-Maxwell AFB, AL 36114-3014.

Written request should contain full name, Social Security Number (SSN) and complete mailing address with notarized signature as below.

An unsworn declaration under penalty of perjury in accordance with section 1746 of 28 U.S.C. (Reference (n)) or notarized signatures are acceptable as a means of proving the identity of the individual.

If an unsworn declaration is executed within the United States, its territories, possessions, or commonwealths, it shall read “I declare (or certify, verify, or state) under penalty of perjury that the foregoing is true and correct. Executed on (date). (Signature).”

If an unsworn declaration is executed outside the United States, it shall read “I declare (or certify, verify, or state) under penalty of perjury under the laws of the United States of America that the foregoing is true and correct. Executed on (date). (Signature).”

Contesting records procedures:

The Air Force rules for accessing records, and for contesting contents and appealing initial agency determinations are published in Air Force Instruction 33-332; 32 CFR part 806b; or may be obtained from the system manager.

Record source categories:

Information is derived from data originating from the following official DoD systems: Military Personnel Data System (MilPDS), Defense Manpower Data Center (DMDC), Defense Civilian Personnel Data System (DCPDS), Global Directory Services (GDS), Air Force Global Address Listing (AFGAL) and Military Personnel Execution System (MPES).

Exemptions claimed for the system:

None.

[FR Doc. E9-7598 Filed 4-3-09; 8:45 am]

BILLING CODE